DEPARTMENT OF THE TREASURY

Agency Information Collection Activities; Submission for OMB Review; Comment Request; Form 5495—Request for Discharge From Personal Liability Under Internal Revenue Code Section 2204 or 6905

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before March 29, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

Title: Form 5495—Request for Discharge from Personal Liability under Internal Revenue Code Section 2204 or 6905.

OMB Control Number: 1545-0432.

Type of Review: Extension without change of a currently approved collection.

Description: Form 5495 provides guidance under sections 2204 and 6905 for executors of estates and fiduciaries of decedent's trusts. The form, filed after regular filing of an Estate, Gift, or Income tax return for a decedent, is used by the executor or fiduciary to request discharge from personal liability for any deficiency for the tax and periods shown on the form.

Form: 5495.

Affected Public: Individuals and households.

Estimated Number of Respondents: 1,800.

Frequency of Response: On Occasion.

Estimated Total Number of Annual Responses: 25,000.

Estimated Time per Response: 12.26 hours.

Estimated Total Annual Burden Hours: 306,500.

Authority: 44 U.S.C. 3501 et seq.

Dated: February 21, 2019.
Spencer W. Clark,
Treasury PRA Clearance Officer.

[FR Doc. 2019-03335 Filed 2-26-19; 8:45 am]

BILLING CODE 4830-01-P